DEPARTMENT OF HEALTH AND HUMAN SERVICES

Public Meeting of the Presidential Commission for the Study of Bioethical Issues

AGENCY: Presidential Commission for the Study of Bioethical Issues, Office of the Assistant Secretary for Health, Department of Health and Human Services.

ACTION: Notice of meeting.

SUMMARY: The Presidential Commission for the Study of Bioethical Issues will conduct its fifth meeting in May. At this meeting, the Commission will discuss the topic of Federal standards regarding human subjects protection in Federally funded scientific studies.

DATES: The meeting will take place Wednesday, May 18, 2011, from 9 a.m. to approximately 4:45 p.m., and Thursday, May 19, 2011, from 9 a.m. to approximately 1:15 p.m.

ADDRESSES: The Warwick New York Hotel, 65 West 54th Street, New York, NY 10019. Phone 212-247-2700.

FOR FURTHER INFORMATION CONTACT: Hillary Wicai Viers, Communications Director, Presidential Commission for the Study of Bioethical Issues, 1425 New York Avenue, NW., Suite C-100, Washington, DC 20005. Telephone: 202-233-3963. E-mail: Hillary.Viers@bioethics.gov. Additional information may be obtained at http://www.bioethics.gov.

SUPPLEMENTARY INFORMATION: Pursuant to the Federal Advisory Committee Act of 1972, Public Law 92-463, 5 U.S.C. app. 2, notice is hereby given of the fifth meeting of the Presidential Commission for the Study of Bioethical Issues (PCSBI). The meeting will be held from 9 a.m. to approximately 4:45 p.m. on Wednesday, May 18, 2011, and from 9 a.m. to approximately 1:15 p.m. on Thursday, May 19, 2011, at the Warwick New York Hotel, New York, NY. The meeting will be open to the public with attendance limited to space available. The meeting will also be webcast at http://www.bioethics.gov.

Under authority of Executive Order 13521, dated November 24, 2009, the President established PCSBI to serve as a public forum and advise him on bioethical issues generated by novel and emerging research in biomedicine and related areas of science and technology. The Commission is charged to identify and promote policies and practices that assure ethically responsible conduct of scientific research, healthcare delivery, and technological innovation. In undertaking these duties, the Commission will examine specific bioethical, legal, and social issues related to potential scientific and technological advances; examine diverse perspectives and possibilities for useful international collaboration on these issues; and recommend legal, regulatory, or policy actions as appropriate.

The main agenda item for this fifth meeting is to review Federal as well as transnational standards of human subjects protections in scientific studies supported by the Federal government as requested by President Obama on November 24, 2010.

The draft meeting agenda and other information about PCSBI, including information about access to the webcast, will be available at http://www.bioethics.gov.

The Commission welcomes input from anyone wishing to provide public comment on any issue before it. There will be a public comment session in the afternoon on May 18, 2011. Individuals who would like to provide public comment at that time should notify Esther Yoo by telephone at 202-233-3960, or e-mail at Esther.Yoo@bioethics.gov before May 9, 2011. To accommodate as many speakers as possible the time for each individual to speak may be limited. If the number of individuals wishing to speak is greater than can reasonably be accommodated during the scheduled meeting, the Commission may randomly select speakers from among those who register to speak.

Anyone planning to attend the meeting who needs special assistance, such as sign language interpretation or other reasonable accommodations, should also notify Esther Yoo (contact information above) in advance of the meeting. The Commission will make every effort to accommodate persons who need special assistance.

Written comments will also be accepted and are especially welcome. Please address written comments by e-mail to info@bioethics.gov, or by mail to the following address: Public Commentary, Presidential Commission for the Study of Bioethical Issues, 1425 New York Ave., NW, Suite C-100, Washington, DC 20005. Comments will be publicly available, including any personally identifiable or confidential business information that they contain. Trade secrets should not be submitted.

Dated: April 6, 2011.
Valerie H. Bonham,
Executive Director, Presidential Commission for the Study of Bioethical Issues.

[FR Doc. 2011-9123 Filed 4-14-11; 8:45 am]

BILLING CODE 4154-06-P